DEPARTMENT OF LABOR

Occupational Safety and Health Administration

29 CFR Parts 1910 and 1926

[Docket No. OSHA-S215-2006-0063]

RIN 1218-AB67

Electric Power Generation, Transmission, and Distribution; Electrical Protective Equipment; Corrections

AGENCY: Occupational Safety and Health Administration (OSHA), Labor.

ACTION: Correcting amendments.

SUMMARY: On April 11, 2014 (79 FR 20316), the Occupational Safety and Health Administration published a final rule: Revising the general industry standards for electric power generation, transmission, and distribution work and for electrical protective equipment; revising the construction standard for electric power transmission and distribution work; and adopting a new construction standard for electrical protective equipment. The final rule updated those standards and made the general industry and construction standards consistent. This document corrects errors in the preamble and regulatory text of the final rule.

DATES: These corrections become effective on September 24, 2014.

FOR FURTHER INFORMATION CONTACT:

General information and press inquiries: Mr. Frank Meilinger, Office of Communications, Room N3647, OSHA, U.S. Department of Labor, 200 Constitution Avenue NW., Washington, DC 20210; telephone (202) 693-1999; email meilingerfrancis2@dol.gov.

Technical information: Mr. William Perry, Directorate of Standards and Guidance, Room N3718, OSHA, U.S. Department of Labor, 200 Constitution Avenue NW., Washington, DC 20210; telephone (202) 693-1950 or fax (202) 693-1678.

SUPPLEMENTARY INFORMATION: On April 11, 2014, OSHA published a final rule: (1) Revising its general industry and construction standards at 29 CFR 1910.269 and 29 CFR part 1926, subpart V, respectively; (2) revising its general industry standard for electrical protective equipment at 29 CFR 1910.137 and adding a corresponding standard for construction at 29 CFR 1926.97; and (3) revising several other related provisions in OSHA's standards for general industry and construction (79 FR 20316).

OSHA has identified some errors in the preamble and regulatory text. One of those errors is in OSHA's explanation of training requirements for unqualified employees. The preamble stated that unqualified employees who operate, but do not maintain, circuit breakers must receive training in accordance with § 1910.269(a)(2)(i) or § 1926.950(b)(1) (79 FR 20348-20349). However, as noted in several other places in the preamble, in general, neither § 1910.269 nor subpart V govern the electrical safety-related work practices used by unqualified employees. (See, for example, 79 FR 20339, 20348, and 20410.) As described later, OSHA is correcting the preamble discussion at 79 FR 20349 to indicate that such unqualified employees generally must receive training under § 1910.332 or § 1926.21(b), as applicable.

In addition, Appendix A-2 to final § 1910.269 inaccurately describes how to determine whether § 1910.269 or subpart S of part 1910 contains the applicable requirements for electrical safety-related work practices. The flow chart in that appendix asks whether the employee is qualified “as defined in § 1910.269(x).” In subpart V, final § 1926.950(a)(1)(ii) states explicitly that subpart V does not apply to electrical safety-related work practices for unqualified employees. Thus, for the purposes of subpart V, if a worker is not a qualified employee as defined in § 1926.968, subpart V does not address the electrical safety-related work practices that employee must use. However, the exemption in final (and the previous version of) § 1910.269(a)(1)(ii)(B) is less direct, excluding electrical safety-related work practices covered by subpart S of part 1910. In subpart S, § 1910.331(b) provides that §§ 1910.332 through 1910.335, which address training, selection and use of work practices, use of equipment, and safeguards for personnel protection, apply to work performed by unqualified persons on, near, or with electric power generation, transmission, or distribution installations. Consequently, the electrical safety-related work practices for employees who are not qualified persons (employees) as that term is defined in subpart S (§ 1910.399) are in subpart S, not § 1910.269. However, § 1910.269 does apply to electrical safety-related work practices for employees who are qualified under subpart S, but not qualified under § 1910.269.¹ This class of employee includes, in particular, line-clearance tree trimmers, as explained in the preamble to the 1994 final rule adopting the previous version of § 1910.269 (59 FR 4320, 4336, 4409-4410, Jan. 31, 1994). For this reason, OSHA is correcting the first question in the flow chart in Appendix A-2 to § 1910.269 so that it refers to the definition of “qualified” in § 1910.399 instead of the definition of that term in § 1910.269(x).

¹ With respect to the example provided at 79 FR 20348-20349, it is possible that a worker operating, but not maintaining, a circuit breaker could be qualified under subpart S, but not under § 1910.269. In that case, the training requirements in § 1910.269(a)(2)(i) would apply instead of the requirements in § 1910.332. Because OSHA believes such cases are relatively rare, the Agency is clarifying the preamble to address the more likely case in which the worker is not qualified under subpart S and § 1910.269 does not apply.

Table 1 to Appendix A-2 lists, in separate columns, paragraphs in § 1910.269 that apply regardless of compliance with subpart S and paragraphs in § 1910.269 for which compliance with subpart S is deemed to be compliance with § 1910.269. This table in the final rule inadvertently lists the paragraph numbers as they appeared in the previous version of § 1910.269. OSHA is correcting these references to match the corresponding provisions in the final rule. OSHA is also adding references to new provisions that have no counterpart in subpart S to the list of provisions requiring compliance regardless of compliance with subpart S (specifically, the information-transfer requirements in § 1910.269(a)(3) and the requirements on protection from flames and electric arcs in § 1910.269(l)(8)). In addition, the Agency is moving § 1910.269(i)(3) on portable and vehicle-mounted generators from the list of provisions that apply regardless of compliance with subpart S to the list of provisions for which compliance with subpart S is deemed to be compliance with § 1910.269. When OSHA adopted the previous version of § 1910.269 in 1994, subpart S did not contain requirements for portable or vehicle-mounted generators. However, the 2007 revisions to the installation requirements in subpart S included provisions equivalent to those in § 1910.269(i)(3) (72 FR 7136; Feb. 14, 2007). Those subpart S requirements appear in § 1910.304(g)(3).

OSHA also found an error in the regulatory text of final § 1910.269(h), which contains requirements for portable ladders and platforms. In the preamble to the final rule, OSHA explained why the Agency did not apply final § 1926.955(b)(1) to portable ladders as follows:

Paragraph (b)(1) of final § 1926.955 requires portable platforms to be capable of supporting without failure at least 2.5 times the maximum intended load in the configurations in which they are used. Paragraph (b)(1) in the proposed rule also applied this requirement to portable ladders. However, § 1926.1053(a)(1), which also applies, already specifies the strength of portable ladders. Having two standards with different strength requirements for portable ladders would be confusing. Consequently, OSHA revised § 1926.955(b)(1) in the final rule so that it covers only portable platforms. [79 FR 20405]

Section 1926.1053 does not apply to portable ladders used in work covered by § 1910.269, and the general industry requirements for portable ladders in subpart D of part 1910 do not contain comparable requirements for the strength of portable wood ladders (§ 1910.25) or metal ladders (§ 1910.26) and do not address portable fiberglass ladders at all. Consequently, the rationale behind OSHA's decision to drop portable ladders from final § 1926.955(b)(1) does not apply to the equivalent requirement in final § 1910.269(h)(2)(i). However, in adopting that provision in final § 1910.269, OSHA copied the language from final § 1926.955(b)(1), thus inadvertently dropping the strength requirement for portable ladders from the general industry provision. This document corrects that oversight and restores the language from the previous version of the standard.²

² The previous version of § 1910.269(h)(2)(iv) required portable ladders to be capable of supporting without failure at least 2.5 times the maximum intended load in the configurations in which they are used.

Corrections. This document corrects errors in the preamble of that final rule, as follows:

Preamble
Page | Column | Lines | Correction
20316 | 2 | 18-21, from the top | Change the sentence beginning “The final rule removes the requirement” to read: “The final rule revises the general industry standard on foot protection, 29 CFR 1910.136, to require employers to ensure that each affected employee uses protective footwear when the use of protective footwear will protect the affected employee from an electrical hazard, such as a static-discharge or electric-shock hazard, that remains after the employer takes other necessary protective measures.”
20317 | 3 | 21-24, from the top | Change the sentence beginning “The final rule removes the requirement” to read: “The final rule revises the general industry standard on foot protection, 29 CFR 1910.136, to require employers to ensure that each affected employee uses protective footwear when the use of protective footwear will protect the affected employee from an electrical hazard, such as a static-discharge or electric-shock hazard, that remains after the employer takes other necessary protective measures.”
20319 | 1 | 13, from the top | Change “$17.2” to “$17.3.”
20326 | 2 | 27, from the bottom | Change “1971” to “1972.”
20327 | 2 | 7, from the bottom (footnote 13) | Change “CPL 02-00-148” to “CPL 02-00-150.”
20329 | 2 | 11, from the bottom, not counting the footnote | Change “hose, gloves, and sleeves” to “hose, covers, gloves, and sleeves.”
20349 | 1 | 7-15, from the top | Replace the two sentences starting with “Thus, assuming that these workers are not qualified” with: “Thus, assuming that these workers are not qualified employees, they generally need to receive only the training required by 1910.332 for general industry work and 1926.21(b) for construction work.”
20374 | 3 | 9, from the top | Change “this paragraph” to “paragraph (d)(2).”
20378 | 1 | 33-34, from the top | Change the sentence reading: “OSHA rejects ConEd's recommendation” to read: “OSHA does not share ConEd's concerns.”
20378 | 2 | 20, from the bottom, not counting the footnote | Change “will enable the entrant” to “will enable the attendant.”
20379 | 3 | 1-3, from the bottom | Change footnote 96 to read: “OSHA revised and reissued this SHIB as “Calibrating and Testing Direct-Reading Portable Gas Monitors,” SHIB 09-30-2013, which is available at https://www.osha.gov/dts/shib/shib093013.html.”
20401 | 3 | 10, from the bottom, not counting the footnote | Change “certify” to “determine.”
20405 | 2 | 29, from the top | Insert “of final § 1926.955” after “through (b)(4).”
20409 | 2 | 25, from the top | Change “that the IEEE standard does not contain” to “that IEEE standards available at the time do not contain.”
20421 | 2 | 10-13, from the bottom, not counting the footnote | Change the sentence beginning “For phase-to-ground exposures” to read: “For phase-to-ground exposures, the saturation factor will be increased slightly, resulting in larger minimum approach distances.”
20427 | 2 | 6, from the bottom | Add the following sentence before the sentence beginning “Finally”: “Table V-6 in the final rule specifies alternative minimum approach distances for work done at elevations not exceeding 900 meters (3,000 feet) for system voltages of 72.6 kilovolts and more.”
20432 | 3 | 35, from the top | Change “opening” to “closing.”
20432 | 3 | 37, from the top | Change “closing” to “opening.”
20436 | 2 | 1, from the top | In the equation, highlight “(C + a)V L-GT”. (Note that this equation is in the second column, below Equation (1).)
20437 | 1 | 3, from the bottom of the footnotes | In the second line of footnote 222, change “a” to “a.”
20439 | 3 | First line over (and immediately before) Equation (3) | Change “transient overvoltage on the line” to “per-unit transient overvoltage on the line.”
20440 | 1 | 11, from the top | Add “It” before “is well recognized.” (Note that from this point to the end of that paragraph is quoted material.)
20443 | 2 | 3, from the bottom, not counting the footnotes | Add “electrical component of the” before “minimum approach distance.”
20444 | N/A | N/A | Change the heading for the third column of the table in the middle of the page to read: “Modified Gallet formula.”
20451 | 2 | 12, from the top | Add “maximum” before “use.”
20462 | 2 | 1, from the bottom (footnote 282) | Add the following sentence at the end of the footnote: “The Linhard letter is available at: https://www.osha.gov/pls/oshaweb/owadisp.show_document?p_table=INTERPRETATIONS&p_id=25557.”
20463 | 2 | 23, from the bottom (footnote 285) | Add the following text immediately preceding the period at the end of the footnote: “(that is, maintained so that equipment is in good operating condition).”
20466 | 3 | 12, from the top | Change “1,000” to “15,000” in both places.
20469 | 3 | 1-2, from the bottom (footnote 316) | Change the hyperlink in the footnote to: “http://www.kinectrics.com/Solutions/Pages/Arc-Hazard-Services.aspx.”
20471 | N/A | N/A | Change the figure number from “Figure 1” to “Figure 10.”
20472 | 2 | 30-37, from the top | In the sentence reading, “In addition, the NFPA 70E Annex D method produces an incident-energy level of 1254 cal/cm² for an exposure involving a three-phase arc in open air for a system of 800 kilovolts with a fault current of 20,000 amperes, a clearing time of 54.5 cycles, and a distance from the employee to the arc of 2,200 meters (86.6 inches)” change “1254 cal/cm²” to “1,537 cal/cm²” and change “2,200 meters” to “2,200 millimeters.”
20476 | 3 | 10, from the bottom, not counting the footnote or Table 12 | Add “and input parameters” after “methods.”
20477 | N/A | 16, from the top (in Note 5 to Table 12) | Change “IEEE 1584-2011” to “IEEE 1584b-2011.”
20482 | 3 | 8, from the top | Change “intercept” to “interrupt.”
20487 | 2 | 8, from the top | Move footnote 359 to the end of the preceding sentence, ending “afforded by rubber insulating gloves (Ex. 0134),” on line 4 (from the top).
20502 | 3 | 5, from the bottom | Change “electrical energy” to “electric energy.”
20505 | 3 | 9, from the bottom, not counting the footnote | Change “electrical energy” to “electric energy.”
20518 | 1 | 17, from the bottom | Change “line-line tool” to “live-line tool.”
20524 | 2 | 20, from the top | Change “puling” to “pulling.”
20529 | 1 | 2 from the bottom, (footnote 435) | Insert “√3” between “equals” and “times.”
20539 | 1 | 34, from the top | Change “electrical energy” to “electric energy.”
20546 | 3 | 1-3, from the bottom (continuation of footnote 459) | Delete the last sentence of footnote 459.
20554 | 2 | 8-9, from the top | Add “(d)” after “paragraph” in line 8 and add “as corrected at 59 FR 33658-33664” after “59 FR 4362,” inside the right bracket, in line 9.
20558 | 1 | 9-10, from the bottom (footnote 475) | Change the sentence beginning “Secondary insulation normally” to read: “Secondary insulation supplements primary insulation, for example, by insulating an employee's feet from a grounded surface.”
20558 | 3 | 30, from the bottom, not counting the footnote | Change “electrical-safety footwear” to “footwear protecting against electrical hazards.”
20564 | 2 | 12—13, from the top (above Table 19) | Change “establishments have fewer than 20 employees or fewer” to “establishments have fewer than 20 employees.”
20581 | N/A | N/A | Add the following caption to the table at the bottom of the page: “Table 27—Provision Category Percent for Accident Categories.”
20582 | N/A | 6, from the top line of the first note below Table 29 | Change the single dagger (†) to two daggers (††) in the note beginning “In the FEA.”
20585 | 1 | 3-8, from the bottom (footnote 536) | Change the first sentence of the footnote to read: “OSHA annualized one-time costs using the standard spreadsheet formula for calculating the payment for a loan based on constant payments and a constant interest rate. (In Excel, the function is PMT (rate, nper, pv, fv, type), where: Rate is the interest rate, nper is the number of years over which the cost is annualized (for example, the life of equipment), pv is the total one-time cost (also referred to as the `present value'), and fv and type are optional and unused.)”
20587 | 3 | 12, from the bottom, not counting the footnote (and below Table 32) | Change “20” to “$20.”
20587 | 3 | 9, from the bottom, not counting the footnote (and below Table 32) | Change “55 to 73” to “$55 to $73.”
20588 | 3 | 6, from the top (above Table 33) | Change “0.6 million” to “$0.6 million.”
20588 | 3 | 10, from the top (above Table 33) | Change “0.1 million” to “$0.1 million.”
20589 | 2 | 7, from the bottom (footnote 545) | Change “footnote 545” to “footnote 544.”
20590 | N/A | Table 34 | Replace Table 34 with replacement Table 34, which appears following the correction tables.
20590 | 3 | 1, from the bottom (footnote 548) | Change “footnote 545” to “footnote 544.”
20612 | 3 | 9, from the bottom | Change “0.086 percent” to “0.092 percent.”
20612 | 3 | 11, from the bottom | Change “2.9 percent” to 3.205 percent.”
20613 | 3 | 1, from the bottom (above Table 52) | Change “0.040 percent” to “0.385 percent.”
20623 | 1 | 12-14, from the top | Change the hyperlink in reference 15 to: “http://www.irs.gov/uac/SOI-Tax-Stats-Corporation-Source-Book-Statistical-Tables-2010-All-Sectors.”
20623 | 2 | 6, from the bottom | Change the hyperlink in reference 37 to: “http://www.bls.gov/oes/tables.htm.”
N/A = not applicable.

Table 34 on page 20590 is corrected to read as follows:

BILLING CODE 4510-26-P

BILLING CODE 4510-26-C

Lists of Subjects in 29 CFR Parts 1910 and 1926

Electric power, Fire prevention, Hazardous substances, Incorporation by reference, Occupational safety and health, Safety.

Authority and Signature

David Michaels, Ph.D., MPH, Assistant Secretary of Labor for Occupational Safety and Health, U.S. Department of Labor, 200 Constitution Ave. NW., Washington, DC 20210, authorized the preparation of this document.

This action is taken pursuant to sections 3704 et seq., Public Law 107-217, 116 STAT. 1062, (40 U.S.C. 3704 et seq.); sections 4, 6, and 8, Public Law 91-596, 84 STAT. 1590 (29 U.S.C. 653, 655, 657), Secretary of Labor's Order No. 1-2012 (77 FR 3912 (Jan. 25, 2012)), and 29 CFR Part 1911.

Signed at Washington, DC, on September 8, 2014.
David Michaels,
Assistant Secretary of Labor for Occupational Safety and Health.

The Occupational Safety and Health Administration amends Parts 1910 and 1926 of Title 29 of the Code of Federal Regulations as follows:

PART 1910—[AMENDED]

Subpart R—Special Industries

1. The authority citation for subpart R of part 1910 continues to read as follows:

Authority: 29 U.S.C. 653, 655, 657; Secretary of Labor's Order No. 12-71 (36 FR 8754), 8-76 (41 FR 25059), 9-83 (48 FR 35736), 1-90 (55 FR 9033), 6-96 (62 FR 111), 5-2007 (72 FR 31159), 4-2010 (75 FR 55355), or 1-2012 (77 FR 3912), as applicable; and 29 CFR part 1911.

2. Amend § 1910.269 as follows:

a. Revise paragraph (h)(2)(i);

b. In Table R-3:

i. Under the entry “For phase-to-phase system voltages of more than 72.5 kV, nominal”, in the thirteenth row, revise the equation;

ii. In footnote 2, revise “Table 6 through Table 13” to read “Table 14 through Table 21”;

c. In Tables R-6 and R-7, remove the bracketed expression “[In meters or feet and inches]”;

d. Revise Appendix A-2 to § 1910.269;

e. In Appendix B to § 1910.269, section IV.D, remove the words “Table 7 through Table 14” wherever they appear and add in their place the words “Table 14 though Table 21”;

f. Revise Table 6 in Appendix B to § 1910.269;

g. In Appendix C to § 1910.269, redesignate footnotes 14, 15, 16, 17, and 18 as footnotes 1, 2, 3, 4, and 5, respectively;

h. In Appendix D to § 1910.269, redesignate footnotes 19 and 20 as footnotes 1 and 2, respectively; and

i. In Appendix E to § 1910.269, redesignate footnotes 21, 22, 23, 24, 25, 26, 27, 28, and 29 as footnotes 1, 2, 3, 4, 5, 6, 7, 8, and 9, respectively.

The revisions read as follows:

§ 1910.269 Electric power generation, transmission, and distribution.

* * * * *

(h) * * *

(2) * * *

(i) In the configurations in which they are used, portable ladders and platforms shall be capable of supporting without failure at least 2.5 times the maximum intended load.

* * * * *

Table R-3—AC Live-Line Work Minimum Approach Distance

* * * * *

MAD = 0.3048(C + a)VL-GTA + M

* * * * *

Appendix A-2 to § 1910.269— Application of § 1910.269 and Subpart S of this Part to Electrical Safety-Related Work Practices ¹

BILLING CODE 4510-26-P

BILLING CODE 4510-26-C

Table 1—Electrical Safety Requirements in § 1910.269
Compliance with Subpart S will comply with these paragraphs of § 1910.269 ¹ | Paragraphs that apply regardless of compliance with Subpart S ²
(d), electric-shock hazards only | (a)(2), (a)(3) and (a)(4).
(h)(3) | (b)
(i)(2) and (i)(3) | (c)
(k) | (d), for other than electric-shock hazards.
(l)(1) through (l)(5), (l)(7), and (l)(10) through (l)(12) | (e)
(m) | (f)
(p)(4) | (g)
(s)(2) | (h)(1) and (h)(2).
(u)(1) and (u)(3) through (u)(5) | (i)(4)
(v)(3) through (v)(5) | (j)
(w)(1) and (w)(7) | (l)(6), (l)(8) and (l)(9).
| (n)
| (o)
| (p)(1) through (p)(3).
| (q)
| (r)
| (s)(1)
| (t)
| (u)(2) and (u)(6)
| (v)(1), (v)(2), and (v)(6) through (v)(12).
| (w)(2) through (w)(6), (w)(8), and (w)(9).
¹ If the electrical installation meets the requirements of §§ 1910.302 through 1910.308 of this part, then the electrical installation and any associated electrical safety-related work practices conforming to §§ 1910.332 through 1910.335 of this part are considered to comply with these provisions of § 1910.269 of this part.
² These provisions include electrical safety and other requirements that must be met regardless of compliance with subpart S of this part.

* * * * *

Table 6—Minimum Approach Distances Until December 31, 2014
Voltage range phase to phase (kV) | Phase-to-ground exposure: m | Phase-to-ground exposure: ft | Phase-to-phase exposure: m | Phase-to-phase exposure: ft
0.05 to 1.0 | Avoid Contact |  | Avoid Contact
1.1 to 15.0 | 0.64 | 2.10 | 0.66 | 2.20
15.1 to 36.0 | 0.72 | 2.30 | 0.77 | 2.60
36.1 to 46.0 | 0.77 | 2.60 | 0.85 | 2.80
46.1 to 72.5 | 0.90 | 3.00 | 1.05 | 3.50
72.6 to 121 | 0.95 | 3.20 | 1.29 | 4.30
138 to 145 | 1.09 | 3.60 | 1.50 | 4.90
161 to 169 | 1.22 | 4.00 | 1.71 | 5.70
230 to 242 | 1.59 | 5.30 | 2.27 | 7.50
345 to 362 | 2.59 | 8.50 | 3.80 | 12.50
500 to 550 | 3.42 | 11.30 | 5.50 | 18.10
765 to 800 | 4.53 | 14.90 | 7.91 | 26.00
Note: The clear live-line tool distance must equal or exceed the values for the indicated voltage ranges.

* * * * *

PART 1926—[AMENDED]

Subpart V—Electric Power Transmission and Distribution

3. The authority citation for subpart V of part 1926 continues to read as follows:

Authority: 40 U.S.C. 3701 et seq.; 29 U.S.C. 653, 655, 657; Secretary of Labor's Order No. 1-2012 (77 FR 3912); and 29 CFR Part 1911.

§ 1926.960 [Amended]

4. In § 1926.960, in Tables V-5 and V-6, remove the parenthetical expression “(In Meters or Feet and Inches)” in the table headings.

§ 1926.968 [Amended]

5. Amend § 1926.968 as follows:

a. In the note to the definition of “Hazardous atmosphere” (5), remove “§ 1926.1200” and add “§ 1926.59” in its place; and

b. In paragraph 2 of the definition of “Lines”, remove the word “section” and add the word “subpart” in its place.

Appendix B to Subpart V of Part 1926 [Amended]

6. In Appendix B to Subpart V, in Table 2, remove the words “2. Multiply by √3” and add “2. Multiply by √2” in their place.

[FR Doc. 2014-22148 Filed 9-23-14; 8:45 am]

BILLING CODE 4510-26-P